DEPARTMENT OF TRANSPORTATION

Federal Highway Administration

Notice of Final Federal Agency Actions on Proposed Highway in California

AGENCY: Federal Highway Administration (FHWA), DOT

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project along Interstate 805 from the proposed Carroll Canyon Road Direct Access Ramp (DAR) to the I-805/I-5 merge in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 13, 2009. If the Federal law that authorizes judicial review of a claim provides a time period of less than 180 days for filing such claim, then that shorter time period still applies.

FOR FURTHER INFORMATION CONTACT: Susanne Glasgow, Deputy District Director, Division of Environmental Analysis, California Department of Transportation, 4050 Taylor Street, San Diego, CA 92110, Regular Office Hours 8 a.m. to 5 p.m., Telephone number 619-688-0100, e-mail: Susanne.Glasgow@dot.ca.gov.

SUPPLEMENTARY INFORMATION: Effective July 1, 2007, the Federal Highway Administration (FHWA) assigned and the California Department of Transportation (Caltrans) assumed environmental responsibilities for this project pursuant to 23 U.S.C. 327. Notice is hereby given that Caltrans and the USFWS have taken final agency actions subject to 23 U.S.C. 139(l)(1) by issuing licenses, permits, and approvals for the following highway project in the State of California. The California Department of Transportation (Caltrans) proposes to extend Carroll Canyon Road under Interstate 805 (I-805), construct north facing Direct Access Ramps (DARs) from the extension of Carroll Canyon Road to I-805, and add north and southbound High Occupancy Vehicle (HOV) lanes on I-805 from the DARs, north to the I-805 junction with I-5. The project extends for a length of 2.2 mi (3.5 km). The project would provide additional access for motorists to I-805 that are currently experiencing substantial delay at the existing Mira Mesa Boulevard/Sorrento Valley Road interchange. The actions by the Federal agencies and the laws under which such actions were taken are described in the Final Environmental Assessment (EA), and a Finding of No Significant Impact (FONSI) was issued for the project on April 2, 2009. The EA/FONSI and other project records are available by contacting Caltrans at the address provided above. The EA/FONSI and other project records can be viewed and downloaded from the project web site at: http://www.dot.ca.gov/dist11/Env_docs/I-805CCRFinal_4-09.pdf. This notice applies to all Federal agency decisions as of the issuance date of this notice and all laws under which such actions were taken including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Clean Water Act of 1977 and 1987;

8. Endangered Species Act of 1973;

9. Migratory Bird Treaty Act;

10. Farmland Protection Policy Act of 1981;

11. Title VI of the Civil Rights Act of 1964;

12. Uniform Relocation Assistance and Real Property Acquisition Act of 1970;

13. National Historic Preservation Act of 1966;

14. Historic Sites Act of 1935;

15. Executive Order 11990, Protection of Wetlands;

16. Executive Order 13112, Invasive Species;

17. Executive Order 11988, Floodplain Management; and

18. Executive Order 12898, Environmental Justice.

(Catalog of Federal Domestic Assistance Program Number 20.205, Highway Planning and Construction. The regulations implementing Executive Order 12372 regarding intergovernmental consultation on Federal programs and activities apply to this program.)

Authority: 23 U.S.C. 139(l)(1).

Issued on: April 9, 2009.
Cindy Vigue,
Director, State Programs, Federal Highway Administration, Sacramento, California.

[FR Doc. E9-8659 Filed 4-14-09; 8:45 am]

BILLING CODE 4910-RY-P